DEPARTMENT OF HOMELAND SECURITY

Federal Emergency Management Agency

[Docket ID FEMA-2012-0012]

National Flood Insurance Program Programmatic Environmental Impact Statement

AGENCY: Federal Emergency Management Agency, DHS.

ACTION: Notice.

SUMMARY: The Federal Emergency Management Agency (FEMA) is issuing this notice to advise the public that FEMA is reopening the comment period for Docket ID FEMA-2012-0012. The initial Notice of Intent to prepare an Environmental Impact Statement published in the May 16, 2012 Federal Register, and requested public comments no later than July 16, 2012. FEMA has reopened the comment period for submitting public comments to October 9, 2012. All substantive comments on the Notice of Intent received during the public comment period will become part of the scoping record.

DATES: Comments submitted regarding the May 16, 2012 Notice of Intent must be received by October 9, 2012.

ADDRESSES: Comments must be identified by Docket ID FEMA-2012-0012 and may be submitted by one of the following methods:

Federal eRulemaking Portal: http://www.regulations.gov. Follow the instructions for submitting comments. Please note that this notice is not a rulemaking and that the Federal Rulemaking Portal is being utilized only as a mechanism for receiving comments.

Mail: Regulatory Affairs Legal Division, Office of Chief Counsel, Federal Emergency Management Agency, Room 835, 500 C Street SW., Washington, DC 20472-3100.

FOR FURTHER INFORMATION CONTACT: Emily Blanton, Federal Emergency Management Agency, Office of Environmental Planning and Historic Preservation, 1800 S. Bell Street, 7th Floor, Arlington, VA 20598-3020. Phone: (202) 646-2585. Fax: (202) 646-4033.

SUPPLEMENTARY INFORMATION: The Federal Emergency Management Agency (FEMA) is issuing this notice to advise the public that FEMA is reopening the comment period for Docket ID FEMA-2012-0012. The initial Notice of Intent to prepare an Environmental Impact Statement was published in the May 16, 2012 Federal Register at 77 FR 28891, and requested public comments no later than July 16, 2012.

Due to the extenuating circumstances caused by the passage of a 5-year National Flood Insurance Program reauthorization (See Biggert-Waters Flood Insurance Reform Act of 2012, Pub. L. 112-141, 126 Stat. 405), interested parties have requested an extension of the comment period. FEMA has reopened the comment period for submitting public comments to October 9, 2012. All substantive comments on the Notice of Intent received during the public comment period will become part of the scoping record.

Dated: August 14,2012.
W. Craig Fugate,
Administrator, Federal Emergency Management Agency.

[FR Doc. 2012-20618 Filed 8-21-12; 8:45 am]

BILLING CODE 9111-A6-P